DEPARTMENT OF THE TREASURY

Agency Information Collection Activities; Submission for OMB Review; Comment Request; Annual Certification and Data Collection Report

AGENCY: Departmental Offices, U.S. Department of the Treasury.

ACTION: Notice.

SUMMARY: The Department of the Treasury will submit the following information collection requests to the Office of Management and Budget (OMB) for review and clearance in accordance with the Paperwork Reduction Act of 1995, on or after the date of publication of this notice. The public is invited to submit comments on these requests.

DATES: Comments should be received on or before October 31, 2018 to be assured of consideration.

ADDRESSES: Send comments regarding the burden estimate, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW, Suite 8142, Washington, DC 20220, or email at PRA@treasury.gov.

FOR FURTHER INFORMATION CONTACT: Copies of the submissions may be obtained from Jennifer Quintana by emailing PRA@treasury.gov, calling (202) 622-0489, or viewing the entire information collection request at www.reginfo.gov.

SUPPLEMENTARY INFORMATION:

Community Development Financial Institutions (CDFI)

Title: Annual Certification and Data Collection Report Form.

OMB Control Number: 1559-0046.

Type of Review: Extension without change of a currently approved collection.

Abstract: The primary intent of the Annual Certification and Data Collection Report Form is to ensure that Community Development Financial Institutions (CDFI) continue to meet the requirements to be certified CDFIs. It is also an annual method to ensure that organizational information is up-to-date. The financial and portfolio data will be used by the CDFI Fund to gain insight on the CDFI industry. Information provided in these sections will not impact a CDFI's certification status or applications for CDFI Fund programs.

Forms: Annual Certification and Data Collection Report Form.

Affected Public: Businesses or other for-profits.

Estimated Total Annual Burden Hours: 8,663.

Authority: 44 U.S.C. 3501 et seq.

Dated: September 26, 2018.
Jennifer P. Quintana,
Treasury PRA Clearance Officer.

[FR Doc. 2018-21320 Filed 9-28-18; 8:45 am]

BILLING CODE 4810-70-P